DEPARTMENT OF LABOR

Employment and Training Administration

[TA-W-51,603]

Sony Semiconductor San Antonio, Texas; Notice of Termination of Investigation

Pursuant to section 221 of the Trade Act of 1974, an investigation was initiated on April 25, 2003, in response to a petition filed on behalf of workers at Sony Semiconductor, San Antonio, Texas.

The workers who filed the petition have requested that the petition be withdrawn. Consequently, further investigation in this case would serve no purpose and the investigation has been terminated.

Signed in Washington, DC this 6th day of May 2003.
Elliott S. Kushner,
Certifying Officer, Division of Trade Adjustment Assistance.

[FR Doc. 03-12572 Filed 5-19-03; 8:45 am]

BILLING CODE 4510-30-P